SECURITIES AND EXCHANGE COMMISSION

[File No. 500-1]

Uniontown Energy, Inc.; Order of Suspension of Trading

June 1, 2011.

It appears to the Securities and Exchange Commission that there is a lack of current and accurate information concerning the securities of Uniontown Energy, Inc. because of questions regarding the accuracy of assertions by the company, and by others, including in press releases to investors concerning, among other things: the acquisition and exploration of oil properties.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on June 1, 2011 through 11:59 p.m. EDT, on June 14, 2011.

By the Commission.
Elizabeth M. Murphy,
Secretary.

[FR Doc. 2011-13880 Filed 6-1-11; 11:15 am]

BILLING CODE 8011-01-P